DEPARTMENT OF ENERGY

Federal Energy Regulatory Commission

Combined Notice of Filings #1

Take notice that the Commission received the following Complaints and Compliance filings in EL Dockets:

Docket Numbers: EL23-6-000.

Applicants: Hollow Road Solar, LLC v. Old Dominion Electric Cooperative.

Description: Petition for Enforcement.

Filed Date: 10/20/22.

Accession Number: 20221020-5070.

Comment Date: 5 p.m. ET 11/10/22.

Take notice that the Commission received the following electric rate filings:

Docket Numbers: ER10-2437-017.

Applicants: Arizona Public Service Company.

Description: Second Supplement to December 28, 2021 Triennial Market Power Analysis for Southwest Region of Arizona Public Service Company.

Filed Date: 10/19/22.

Accession Number: 20221019-5158.

Comment Date: 5 p.m. ET 11/9/22.

Docket Numbers: ER11-3377-009; ER11-3376-008; ER11-3378-009.

Applicants: South Hurlburt Wind, LLC, North Hurlburt Wind, LLC, Horseshoe Bend Wind, LLC.

Description: Notice of Non-Material Change in Status of Horseshoe Bend Wind, LLC, et al.

Filed Date: 10/20/22.

Accession Number: 20221020-5053.

Comment Date: 5 p.m. ET 11/10/22.

Docket Numbers: ER12-922-005; ER22-1272-001.

Applicants: Phillips 66 Company, Phillips 66 Energy Trading LLC.

Description: Notice of Change in Status of Phillips 66 Company, et al.

Filed Date: 10/19/22.

Accession Number: 20221019-5160.

Comment Date: 5 p.m. ET 11/9/22.

Docket Numbers: ER18-1639-000.

Applicants: Constellation Mystic Power, LLC.

Description: Formal Challenge of the New England States Committee on Electricity.

Filed Date: 10/17/22.

Accession Number: 20221017-5096.

Comment Date: 5 p.m. ET 11/16/22.

Docket Numbers: ER19-467-008.

Applicants: New York Independent System Operator, Inc.

Description: Compliance filing: NYISO Amendment to Compliance re: Technical Corrections to eTariff Records to be effective 8/26/2020.

Filed Date: 10/20/22.

Accession Number: 20221020-5015.

Comment Date: 5 p.m. ET 11/10/22.

Docket Numbers: ER22-2736-000.

Applicants: Moss Landing Energy Storage 3, LLC.

Description: Supplement to August 29, 2022, Application for Market-Based Rate Authorization to Moss Landing Energy Storage 3, LLC.

Filed Date: 10/18/22.

Accession Number: 20221018-5166.

Comment Date: 5 p.m. ET 10/28/22.

Docket Numbers: ER23-137-000.

Applicants: ZEP Grand Prairie Wind, LLC.

Description: Request for Prospective Tariff Waiver, et al. of ZEP Grand Prairie Wind, LLC.

Filed Date: 10/19/22.

Accession Number: 20221019-5093.

Comment Date: 5 p.m. ET 11/9/22.

Docket Numbers: ER23-140-000.

Applicants: PJM Interconnection, L.L.C.

Description: § 205(d) Rate Filing: Amendment to ISA No. 2382, Queue No. None, Essex (consent) to be effective 11/20/2012.

Filed Date: 10/19/22.

Accession Number: 20221019-5123.

Comment Date: 5 p.m. ET 11/9/22.

Docket Numbers: ER23-141-000.

Applicants: PJM Interconnection, L.L.C.

Description: § 205(d) Rate Filing: Original NSA, SA No. 6670; Queue No. AC1-033 to be effective 9/20/2022.

Filed Date: 10/20/22.

Accession Number: 20221020-5046.

Comment Date: 5 p.m. ET 11/10/22.

Docket Numbers: ER23-142-000.

Applicants: Midcontinent Independent System Operator, Inc.

Description: § 205(d) Rate Filing: 2022-10-20_SA 3920 Duke-IN Solar GIA (J1234 J1235) to be effective 12/20/2022.

Filed Date: 10/20/22.

Accession Number: 20221020-5058.

Comment Date: 5 p.m. ET 11/10/22.

Docket Numbers: ER23-143-000.

Applicants: Bruce Power Inc.

Description: Compliance filing: Request for Category 1 Seller Status in the Central Region & Revised MBR Tariff to be effective 10/21/2022.

Filed Date: 10/20/22.

Accession Number: 20221020-5091.

Comment Date: 5 p.m. ET 11/10/22.

Docket Numbers: ER23-144-000.

Applicants: New England Power Company.

Description: New England Power Company submits Notice of Cancellation of the Firm Local Generation Deliverability Service Agreement with Pawtucket Power Associates Limited Partnership.

Filed Date: 10/19/22.

Accession Number: 20221019-5164.

Comment Date: 5 p.m. ET 11/9/22.

Docket Numbers: ER23-145-000.

Applicants: PJM Interconnection, L.L.C.

Description: § 205(d) Rate Filing: Amendment to ISA No. 3669, Y3-051, Z1-058 Linden (amend) to be effective 8/29/2016.

Filed Date: 10/20/22.

Accession Number: 20221020-5116.

Comment Date: 5 p.m. ET 11/10/22.

Docket Numbers: ER23-146-000.

Applicants: Northern Indiana Public Service Company LLC.

Description: § 205(d) Rate Filing: Supplement to WVPA IA for New Delivery Point to be effective 11/23/2022.

Filed Date: 10/20/22.

Accession Number: 20221020-5135.

Comment Date: 5 p.m. ET 11/10/22.

Docket Numbers: ER23-147-000.

Applicants: Resurgence Solar I, LLC.

Description: Baseline eTariff Filing: Resurgence Solar I, LLC Application for Market-Based Rate Authorization to be effective 12/20/2022.

Filed Date: 10/20/22.

Accession Number: 20221020-5138.

Comment Date: 5 p.m. ET 11/10/22.

Docket Numbers: ER23-148-000.

Applicants: Resurgence Solar II, LLC.

Description: Baseline eTariff Filing: Resurgence Solar II, LLC Application for Market-Based Rate Authorization to be effective 12/20/2022.

Filed Date: 10/20/22.

Accession Number: 20221020-5141.

Comment Date: 5 p.m. ET 11/10/22.

Docket Numbers: ER23-149-000.

Applicants: Northern Indiana Public Service Company LLC.

Description: § 205(d) Rate Filing: Supplement to WVPA IA for New Delivery Point to be effective 11/30/2022.

Filed Date: 10/20/22.

Accession Number: 20221020-5142.

Comment Date: 5 p.m. ET 11/10/22.

Docket Numbers: ER23-150-000.

Applicants: Southern Power Company.

Description: § 205(d) Rate Filing: Request for Authorization of Affiliate Transactions to be effective 12/31/2022.

Filed Date: 10/20/22.

Accession Number: 20221020-5144.

Comment Date: 5 p.m. ET 11/10/22.

Take notice that the Commission received the following PURPA 210(m)(3) filings:

Docket Numbers: QM23-1-000.

Applicants: Entergy Arkansas, LLC, Entergy Louisiana, LLC, Entergy Mississippi, LLC, Entergy New Orleans, LLC, Entergy Texas, Inc., Entergy Services, LLC.

Description: Application of Entergy Arkansas, LLC, et al. to Terminate Its Mandatory Purchase Obligation under the Public Utility Regulatory Policies Act of 1978.

Filed Date: 10/19/22.

Accession Number: 20221019-5156.

Comment Date: 5 p.m. ET 11/16/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2022.
Kimberly D. Bose,
Secretary.

[FR Doc. 2022-23290 Filed 10-25-22; 8:45 am]

BILLING CODE 6717-01-P